DEPARTMENT OF LABOR

Employment and Training Administration

[TA-W-38,461 and NAFTA-4357]

Oxford Automotive, Argos, IN; Notice of Negative Determination on Reconsideration on Remand

The United States Court of International Trade (USCIT) has granted the Secretary of Labor's motion for a second voluntary remand for further investigation in Former Employees of Oxford Automotive v. U.S. Secretary of Labor, No. 01-00453.

The Department's initial denial of NAFTA-Transitional Adjustment Assistance for workers producing automotive side panels at Oxford Automotive, Argos, Indiana, was issued on January 24, 2001, and published in the Federal Register on May 9, 2001 (66 FR 23733-34). The negative determination was based on the finding that criteria (3) and (4) of the group eligibility requirements of paragraph (a)(1) of section 250 of the Trade Act of 1974, as amended, were not met. Oxford Automotive did not import articles from Mexico or Canada like or directly competitive with those produced at the Argos, Indiana plant. There was no shift in production from Argos, Indiana, to Mexico or Canada. Although some of the machinery from the Argos plant had been moved to Mexico and other foreign locations, the machinery was idle. The layoffs at the plant were attributable to the customer's decision to take back the production of the side panels.

The Department's initial denial of Trade Adjustment Assistance for the workers producing automotive side panels at Oxford Automotive, Argos, Indiana, was issued on January 24, 2001, and was published in the Federal Register on May 9, 2001 (66 FR 23733-34). The negative determination was based on the finding that the “contributed importantly” criterion of the group eligibility requirements of section 222 of the Trade Act of 1974, as amended, was not met. Oxford Automotive did not import articles like or directly competitive with those produced at the Argos, Indiana plant. The layoffs at the plant were attributable to the customer's decision to take back the production of the side panels.

The petitioners request for reconsideration of TA-W-38,461 and NAFTA-4357 resulted in a negative determination regarding the application, which was issued on April 30, 2001, and was published in the Federal Register on May 9, 2001 (66 FR 23732-33).

On remand, the Department contacted officials of Oxford Automotive to obtain clarification regarding a notation on the “Confidential Data Request”, contained in the investigation record, that the company was importing from Canada and Mexico.

The investigation on remand confirmed that there were no company imports of side panels in 1998, 1999 or 2000.

Again, on the second voluntary remand, the Department contacted the officials of Oxford Automotive to obtain additional information concerning purchases of the products produced by the subject plant and further requested a list of products (by product number) that were sold to the major customer for the 1999 and 2000 periods.

The U.S. Department of Labor conducted a survey of the major declining customer regarding its purchases of side panels for the periods 1998, 1999 and 2000. The Department also verbally requested that the customer indicate where the products are now being purchased. The major customer revealed that they did not import side panels during the relevant period of the investigation. They further indicated that all products once produced by the Argos facility were subsequently purchased from other domestic Oxford Automotive facilities through the current period.

The customer further stated that over half of their purchases from domestic Oxford facilities are now shipped to Mexico to meet the customers' Mexican demand. The customer further concluded that all products previously purchased from Oxford Automotive, Argos, Indiana are still being purchased from other Oxford facilities located in the United States through the current period.

The Department of Labor also contacted Oxford Automotive regarding shifts in Argos plant equipment to Mexico during the relevant period.

The company indicated that all production was phased out during the year 2000. The company moved all press equipment to other facilities. The 180 Press Line went to Mexico, in the spring of 2001. Two other major presses (10 presses total and one blanking press) also went to a Mexican facility during the summer of 2002. The rest of the miscellaneous items went to other domestic Oxford plants from 2001 through the current period. All equipment shifted to Mexico remained idle. The equipment has never been used to produce any product in Mexico.

Conclusion

After reconsideration on remand, I affirm the original notice of negative determination of eligibility to apply for adjustment assistance for workers and former workers of Oxford Automotive, Argos, Indiana.

Signed in Washington, DC, this 31st day of October, 2002.
Edward A. Tomchick,
Director, Division of Trade Adjustment Assistance.

[FR Doc. 02-29693 Filed 11-21-02; 8:45 am]

BILLING CODE 4510-30-P